DEPARTMENT OF TRANSPORTATION

National Highway Traffic Safety Administration

[U.S. DOT Docket Number NHTSA-2001-8797]

Reports, Forms and Record Keeping Requirements Agency Information Collection Activity Under OMB Review

AGENCY: National Highway Traffic Safety Administration, DOT.

ACTION: Proposed information collection.

SUMMARY: The Department of Transportation has submitted the following emergency processing public information collection request to the Office of Management and Budget for review and clearance under the Paperwork Reduction Act of 1995 (Pub. L. 104-13, 44 U.S.C. Chapter 35.) This notice announces that the Information Collection Request (ICR) abstracted below has been forwarded to the Office of Management and Budget (OMB) for review and comment. The ICR describes the nature of the information collections and their expected burden. Comments should be directed to the Office of Information and Regulatory Affairs, Office of Management and Budget, 725-17th Street, NW, Washington, DC 20503, Attention NHTSA Desk Officer.

DATES: OMB approval has been requested by January 29, 2001

FOR FURTHER INFORMATION CONTACT: Dennis Utter, NHTSA, 400 Seventh Street, SW., Room 6125, NRD-31, Washington, DC 20590. Mr. Utter's telephone number is (202) 366-5351.

SUPPLEMENTARY INFORMATION:

National Highway Traffic Safety Administration

Title: National Automotive Sampling System Tire Pressure Special Study.

OMB Control Number: New.

Frequency: One-time only.

Affected Public: Passenger Motor Vehicle Operator Users of Gasoline Stations

Abstract: The National Automotive Sampling System Tire Pressure Special Study is being conducted to respond to Section 13 of the Transportation Recall Enhancement, Accountability, and Documentation (TREAD) Act of 2000. The act directs the Department of Transportation to complete rule making to require a warning system in new motor vehicles to indicate under-inflated tires within one year of enactment. The stringent requirement for enactment of the rule requires that needed data on the frequency and pervasiveness of underinflation be collected and provided in a short period. This study will assess the extent to which passenger vehicle operators are aware of the recommended air pressure for their tires, if they monitor air pressure, and to what extent actual tire air pressure differs from that recommended by the vehicle manufacturer.

Estimated One-Time Burden: 1,568 hours.

Number of Respondents: 13,440.

Raymond P. Owings,
Associate Administrator for Research and Development.

[FR Doc. 01-3105 Filed 2-6-01; 8:45 am]

BILLING CODE 4910-59-P